DEPARTMENT OF COMMERCE

International Trade Administration

[A-428-840, A-570-920]

Antidumping Duty Orders: Lightweight Thermal Paper From Germany and the People's Republic of China

AGENCY: Import Administration, International Trade Administration, Department of Commerce.

SUMMARY: Based on affirmative final determinations by the Department of Commerce (“the Department”) and the International Trade Commission (“ITC”), the Department is issuing antidumping duty orders on lightweight thermal paper (“LWTP”) from Germany and the People's Republic of China (“PRC”).

DATES: Effective Date: November 24, 2008.

FOR FURTHER INFORMATION CONTACT: Cindy Robinson or George McMahon (Germany), or Frances Veith (PRC), AD/CVD Operations, Import Administration, International Trade Administration, U.S. Department of Commerce, 14th Street and Constitution Avenue, NW., Washington, DC 20230, telephone: (202) 482-3797, (202) 482-1167, (202) 482-4295, respectively.

SUPPLEMENTARY INFORMATION:

Background

On October 2, 2008, the Department published the final determinations of sales at less than fair value of LWTP from Germany and the PRC. See Lightweight Thermal Paper from Germany: Notice of Final Determination of Sales at Less Than Fair Value, 73 FR 57326 (October 2, 2008); and Lightweight Thermal Paper from the People's Republic of China: Final Determination of Sales at Less Than Fair Value, 73 FR 57329 (October 2, 2008).

On November 17, 2008, the ITC notified the Department of its final determination pursuant to section 735(d) of the Tariff Act of 1930, as amended (“the Act”), that an industry in the United States is threatened with material injury within the meaning of section 735(b)(1)(A)(ii) of the Act by reason of less-than-fair-value imports of LWTP from Germany and the PRC. See Letter from the ITC to the Secretary of Commerce regarding, “Notification of Final Affirmative Threat Determination of Lightweight Thermal Paper from Germany and from the People's Republic of China,” Investigation Nos. 701-TA-451 and 731-TA-1126-1127 (Final) (November 17, 2008). Pursuant to section 736(a) of the Act, the Department is publishing antidumping duty orders on LWTP from Germany and the PRC.

Scope of the Orders

The merchandise covered by these orders includes certain lightweight thermal paper, which is thermal paper with a basis weight of 70 grams per square meter (g/m²) (with a tolerance of ±4.0 g/m²) or less; irrespective of dimensions;¹ with or without a base coat ² on one or both sides; with thermal active coating(s)³ on one or both sides that is a mixture of the dye and the developer that react and form an image when heat is applied; with or without a top coat;⁴ and without an adhesive backing. Certain lightweight thermal paper is typically (but not exclusively) used in point-of-sale applications such as ATM receipts, credit card receipts, gas pump receipts, and retail store receipts. The merchandise subject to these orders may be classified in the Harmonized Tariff Schedule of the United States (“HTSUS”) under subheadings 3703.10.60, 4811.59.20, 4811.90.8040, 4811.90.9090, 4820.10.20, and 4823.40.00.⁵ Although HTSUS subheadings are provided for convenience and customs purposes, the written description of the scope of these orders is dispositive.

¹ LWTP is typically produced in jumbo rolls that are slit to the specifications of the converting equipment and then converted into finished slit rolls. Both jumbo and converted rolls (as well as LWTP in any other form, presentation, or dimension) are covered by the scope of these orders.

² A base coat, when applied, is typically made of clay and/or latex and like materials and is intended to cover the rough surface of the paper substrate and to provide insulating value.

³ A thermal active coating is typically made of sensitizer, dye, and co-reactant.

⁴ A top coat, when applied, is typically made of polyvinyl acetone, polyvinyl alcohol, and/or like materials and is intended to provide environmental protection, an improved surface for press printing, and/or wear protection for the thermal print head.

⁵ HTSUS subheading 4811.90.8000 was a classification used for LWTP until January 1, 2007. Effective that date, subheading 4811.90.8000 was replaced with 4811.90.8020 (for gift wrap, a non-subject product) and 4811.90.8040 (for “other” including LWTP). HTSUS subheading 4811.90.9000 was a classification for LWTP until July 1, 2005. Effective that date, subheading 4811.90.9000 was replaced with 4811.90.9010 (for tissue paper, a non-subject product) and 4811.90.9090 (for “other,” including LWTP).

Antidumping Duty Orders

In accordance with section 736(a)(1) of the Act, the Department will direct U.S. Customs and Border Protection (“CBP”) to assess, upon further information from the Department, antidumping duties equal to the amount by which the normal value of the merchandise exceeds the export price (or the constructed export price) of the merchandise for all relevant entries of LWTP from Germany and the PRC.

Pursuant to section 736(b)(2) of the Act, duties shall be assessed on subject merchandise entered, or withdrawn from warehouse, for consumption on or after the date of publication of the ITC's notice of final determination if that determination is based on the threat of material injury and is not accompanied by a finding that injury would have resulted without the imposition of suspension of liquidation of entries since the Department's preliminary determination.

Additionally, section 736(b)(2) of the Act requires CBP to refund any cash deposits or bonds of estimated antidumping duties posted since the preliminary antidumping determination if the ITC's final determination is threat-based.

Because the ITC's final determination is based on the threat of material injury and is not accompanied by a finding that injury would have resulted but for the imposition of suspension of liquidation of entries since the Preliminary Determination and Postponement of Final Determination⁶ section 736(b)(2) of the Act is applicable. Therefore, the Department will instruct CBP to assess, upon further advice, antidumping duties on all appropriate entries of lightweight thermal paper from Germany and the PRC entered, or withdrawn from warehouse, for consumption on or after the date of publication of the ITC's notice of final determination of threat of material injury in the Federal Register, in accordance with the following dumping margins:

⁶ See Lightweight Thermal Paper from Germany: Notice of Preliminary Determination of Sales at Less Than Fair Value and Postponement of Final Determination, 73 FR 27498 (May 13, 2008); and Lightweight Thermal Paper From the People's Republic of China: Preliminary Determination of Sales at Less Than Fair Value and Postponement of Final Determination, 73 FR 27504 (May 13, 2008) (collectively, “Preliminary Determination and Postponement of Final Determination”).

LWTP from Germany:

Exporter/producer | Weighted-average margin (percent)
Papierfabrik August Koehler AG and Koehler America, Inc | 6.50
All Others | 6.50

LWTP from the PRC:

Exporter/producer combination | Weighted-average margin (percent)
Exporter: Shanghai Hanhong Paper Co., Ltd, also known as Hanhong International Limited | 115.29
Producer: Shanghai Hanhong Paper Co., Ltd
Exporter: Guangdong Guanhao High-Tech Co., Ltd | 19.77
Producer: Guangdong Guanhao High-Tech Co., Ltd
PRC-Wide Entity* | 115.29
* Includes Anne Paper Co., Ltd. and Yalong Paper Product (Kunshan) Co., Ltd.

This notice constitutes the antidumping duty orders with respect to LWTP from Germany and the PRC, pursuant to section 736(a) of the Act. Interested parties may contact the Department's Central Records Unit, Room 1117 of the Main Commerce Building, for copies of an updated list of antidumping duty orders currently in effect.

This order is issued and published in accordance with section 736(a) of the Act and 19 CFR 351.211(b).

Dated: November 19, 2008.
Stephen J. Claeys,
Deputy Assistant Secretary for Antidumping and Countervailing Duty Operations.

[FR Doc. E8-27977 Filed 11-21-08; 8:45 am]

BILLING CODE 3510-DS-P